DEPARTMENT OF ENERGY

Federal Energy Regulatory Commission

Sunshine Act Meetings

The following notice of meeting is published pursuant to section 3(a) of the government in the Sunshine Act (Pub. L. No. 94-409), 5 U.S.C. 552b:

AGENCY HOLDING MEETING: Federal Energy Regulatory Commission.

DATE AND TIME: April 18, 2013, 10:00 a.m.

PLACE: Room 2C, 888 First Street NE., Washington, DC 20426.

STATUS: Open.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

993rd—Meeting

Regular Meeting

April 18, 2013—10:00 a.m.

Item No. | Docket No. | Company
Administrative
A-1 | AD02-7-000 | Customer Matters, Reliability, Security and Market Operations.
A-2 | AD02-1-000 | Agency Business Matters.
Electric
E-1 | ER13-62-000 | NorthWestern Corporation.
E-2 | ER13-103-000 | California Independent System Operator Corporation.
| ER12-2709-000 | Pacific Gas and Electric Company.
| ER13-87-000 | San Diego Gas & Electric Company.
E-3 | ER13-107-000, ER13-107-001 | South Carolina Electric & Gas Company.
E-4 | ER13-102-000 | New York Independent System Operator, Inc.
E-5 | ER13-108-000 | Alcoa Power Generating Inc. (Long Sault Division).
E-6 | FA11-21-000 | North American Electric Reliability Corporation.
E-7 | RM13-5-000 | Version 5 Critical Infrastructure Protection Reliability Standards.
E-8 | RM12-16-000 | Generator Requirements at the Transmission Interface.
E-9 | RM12-6-001 | Revisions to Electric Reliability Organization.
| RM12-7-001 | Definition of Bulk Electric System and Rules of Procedure.
E-10 | RM10-12-002 | Electricity Market Transparency Provisions of Section 220 of the Federal Power Act.
E-11 | EG13-16-000 | Prairie Breeze Wind Energy LLC.
E-12 | ER12-1772-000 | Southwest Power Pool, Inc.
E-13 | ER13-63-000 | Lockhart Power Company.
E-14 | ER11-3326-001, ER11-3326-002, ER11-3327-001, ER11-3327-002, ER11-3330-001, ER11-3330-002 | Midwest Independent Transmission System Operator, Inc.
Gas
G-1 | RP12-455-001, RP12-455-000 | Panhandle Eastern Pipe Line Company, LP.
Hydro
H-1 | P-2114-208 | Public Utility District No. 2 of Grant County, Washington.
H-2 | P-14433-001, P-14434-001 | Fall River Valley Community Service District KC Pittsfield LLC.
H-3 | P-2790-055 | Boott Hydropower, Inc., and Eldred L. Field Hydroelectric Facility Trust.
Certificates
C-1 | CP12-6-001, CP12-7-001 | El Paso Natural Gas Company, L.L.C.
C-2 | CP12-468-001 | Atlas Pipeline Mid-Continent WestTex, LLC Pioneer Natural Resources USA, Inc.
C-3 | CP10-449-001 | Northern Natural Gas Company.

Issued: April 11, 2013.
Kimberly D. Bose,
Secretary.

A free Web cast of this event is available through www.ferc.gov. Anyone with Internet access who desires to view this event can do so by navigating to www.ferc.gov's Calendar of Events and locating this event in the Calendar.

The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2013-09015 Filed 4-12-13; 4:15 pm]

BILLING CODE 6717-01-P